DEPARTMENT OF ENERGY

Federal Energy Regulatory Commission

[Project No. 13646-000]

The Power Company, Inc.; Notice of Preliminary Permit Application Accepted for Filing and Soliciting Comments, Motions To Intervene, and Competing Applications

March 9, 2010.

On December 21, 2009, The Power Company, Inc. filed an application, pursuant to Section 4(f) of the Federal Power Act, proposing to study the feasibility of the Damariscotta River Hydrokinetic Tidal Energy Project No. 13646, to be located on the Damariscotta River, in Lincoln County, Maine.

The proposed project would consist of: (1) Approximately 10-20 Encurrent hydrokinetic generator units with a total installed capacity of 250 kilowatts; (2) a new 100 to 500-foot-long, 220-volt transmission line; and (3) appurtenant facilities. The project would have an estimated annual generation of 657 megawatt-hours.

Applicant Contact: Richard Simon, 598 Augusta Road, Washington, ME 04574, (207) 845-6100.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp.

Enter the docket number (P-13646) in the docket number field to access the document. For assistance, call toll-free 1-866-208-3372.

Kimberly D. Bose,
Secretary.

[FR Doc. 2010-5645 Filed 3-15-10; 8:45 am]

BILLING CODE 6717-01-P